DEPARTMENT OF HOMELAND SECURITY

Coast Guard

[Docket No. USCG-2019-0704]

Cooperative Research and Development Agreement: Cell Phone Geolocation for USCG Search and Rescue

AGENCY: Coast Guard, DHS.

ACTION: Notice of intent; request for public comments.

SUMMARY: The Coast Guard announces its Cooperative Research and Development Agreement (CRADA) with Callyo 2009 Corporation, to investigate the potential operational use of leveraging smart phone technology, specifically the phone's location services, to help locate mariners in distress more efficiently. The CRADA with Callyo 2009 Corporation is based on market research and visits to vendors with advertised expertise in this unique application of technology in the maritime environment for Search and Rescue. While the Coast Guard is currently partnering with Callyo 2009 Corporation, the agency is soliciting public comment on the possible nature of and participation of other parties in the proposed CRADA. In addition, the Coast Guard also invites other potential non-Federal participants, who have the interest and capability to bring similar contributions to this type of research, to consider submitting proposals for consideration in similar CRADAs.

DATES: Comments must be submitted to the online docket via http://www.regulations.gov on or before September 9, 2019.

Synopses of proposals regarding future CRADAs must reach the Coast Guard (see FOR FURTHER INFORMATION CONTACT) on or before September 9, 2019.

ADDRESSES: Submit comments online at http://www.regulations.gov in accordance with website instructions.

FOR FURTHER INFORMATION CONTACT: If you have questions on this notice or wish to submit proposals for future CRADAs, contact Sekaran Jambukesan, Project Official, C5I Branch, U.S. Coast Guard Research and Development Center, 1 Chelsea Street, New London, CT 06320, telephone 860-271-2884, email Sekaran.jambukesan@uscg.mil.

SUPPLEMENTARY INFORMATION:

Public Participation and Request for Comments

We request public comments on this notice. Although we do not plan to respond to comments in the Federal Register, we will respond directly to commenters and may modify our proposal in light of comments.

Comments should be marked with docket number USCG-2019-0704 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008). We also accept anonymous comments.

We encourage you to submit comments through the Federal eRulemaking Portal at http://www.regulations.gov. If your material cannot be submitted using http://www.regulations.gov, contact the Coast Guard (see FOR FURTHER INFORMATION CONTACT). Documents mentioned in this notice, and all public comments, are in our online docket at http://www.regulations.gov and can be viewed by following that website's instructions. Additionally, if you go to the online docket and sign up for email alerts, you will be notified when comments are posted or a final rule is published.

Do not submit detailed proposals for future CRADAs to the Docket Management Facility. Instead, submit them directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under this CRADA, the R&D Center will collaborate with a non-Federal participant. Together, the R&D Center and the non-Federal participant will collect information/data for performance, reliability, maintenance requirements, human systems integration and other data on using smart phone's location services for geolocation.

We anticipate the Coast Guard's contributions under this CRADA will include the following:

(1) Research by the parties under this CRADA will be performed offsite at Callyo 2009 Corporation's facilities and the RDC.

(2) Provide web based support at the following locations:

CG Sector New York: Staten Island, NY

CG Sector Long Island Sound: New Haven, CT

CG Sector Boston: Boston, MA

CG Sector Southeastern New England: Woods Hole, MA

CG Sector Northern New England: South Portland, ME

We anticipate that the non-Federal participant's contributions under this CRADA will include the following:

(1) Provide technical support, training and maintenance throughout the period of performance to ensure maximum availability and utility of Callyo 2009 Corporation i911 web based solution.

(2) Deployment of the Callyo 2009 Corporation i911 capability, including the interface to the RapidSOS NG911 Clearinghouse, at each CG Sector.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages.

The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard entered a CRADA with Callyo 2009 Corporation for participation in this CRADA. This consideration is based on the fact that Callyo 2009 Corporation has demonstrated its technical ability as the developer, manufacturer, and integrator of cellular direction finding equipment. However, we do not wish to exclude other viable participants from this or future similar CRADAs.

The CRADA with Callyo 2009 Corporation is based on market research and visits to vendors with advertised expertise in this operational use of cellular phone geolocation technology.

This is a technology assessment effort. The goal for the Coast Guard of this CRADA is to better understand the advantages, disadvantages, required technology enhancements, performance, costs, and other issues associated with cellular direction finding technologies. Special consideration will be given to small business firms/consortia, and preference will be given to business units located in the U.S. This document is issued under the authority of 5 U.S.C. 552(a).

Dated: August 15, 2019.
Bert N. Macesker,
Executive Director, U.S. Coast Guard Research and Development Center.

[FR Doc. 2019-18698 Filed 8-28-19; 8:45 am]

BILLING CODE 9110-04-P